DEPARTMENT OF ENERGY

Federal Energy Regulatory Commission

Combined Notice of Filings #1

Take notice that the Commission received the following exempt wholesale generator filings:

Docket Numbers: EG23-152-000.

Applicants: Sun Pond, LLC.

Description: Sun Pond, LLC submits Notice of Self-Certification of Exempt Wholesale Generator Status.

Filed Date: 5/11/23.

Accession Number: 20230511-5060.

Comment Date: 5 p.m. ET 6/1/23.

Docket Numbers: EG23-153-000.

Applicants: Oak Lessee, LLC.

Description: Oak Lessee, LLC submits Notice of Self-Certification of Exempt Wholesale Generator Status.

Filed Date: 5/11/23.

Accession Number: 20230511-5080.

Comment Date: 5 p.m. ET 6/1/23.

Take notice that the Commission received the following Complaints and Compliance filings in EL Dockets:

Docket Numbers: EL23-66-000.

Applicants: Calpine Corporation v. PJM Interconnection, L.L.C.

Description: Complaint of Calpine Corporation v. PJM Interconnection, L.L.C.

Filed Date: 5/10/23.

Accession Number: 20230510-5181.

Comment Date: 5 p.m. ET 6/9/23.

Take notice that the Commission received the following electric rate filings:

Docket Numbers: ER23-762-002.

Applicants: The Dayton Power and Light Company, PJM Interconnection, L.L.C.

Description: Compliance Filing and Motion to Accept Late Filing of the Dayton Power and Light Company.

Filed Date: 5/10/23.

Accession Number: 20230510-5178.

Comment Date: 5 p.m. ET 5/31/23.

Docket Numbers: ER23-1123-001.

Applicants: Portland General Electric Company.

Description: Tariff Amendment: Response to Deficiency Letter—PGE OATT Attachment P to be effective 4/16/2023.

Filed Date: 5/11/23.

Accession Number: 20230511-5108.

Comment Date: 5 p.m. ET 6/1/23.

Docket Numbers: ER23-1418-001.

Applicants: AES WR Limited Partnership.

Description: Tariff Amendment: Amendment to Market-Based Rate Application to be effective 6/1/2023.

Filed Date: 5/11/23.

Accession Number: 20230511-5123.

Comment Date: 5 p.m. ET 6/1/23.

Docket Numbers: ER23-1861-000.

Applicants: PJM Interconnection, L.L.C.

Description: § 205(d) Rate Filing: Original IISA and ICSA, Service Agreement Nos. 6897 and 6898; Queue No. AF2-120 to be effective 4/11/2023.

Filed Date: 5/11/23.

Accession Number: 20230511-5019.

Comment Date: 5 p.m. ET 6/1/23.

Docket Numbers: ER23-1862-000.

Applicants: Roundhouse Renewable Energy II, LLC.

Description: Baseline eTariff Filing: Roundhouse Renewable Energy II, LLC Application for MBR Authorization to be effective 7/11/2023.

Filed Date: 5/11/23.

Accession Number: 20230511-5043.

Comment Date: 5 p.m. ET 6/1/23.

Docket Numbers: ER23-1863-000.

Applicants: New York Independent System Operator, Inc.

Description: § 205(d) Rate Filing: NYISO 205: Transmission Constraint Pricing Logic Enhancement to be effective 12/31/9998.

Filed Date: 5/11/23.

Accession Number: 20230511-5051.

Comment Date: 5 p.m. ET 6/1/23.

Docket Numbers: ER23-1864-000.

Applicants: PJM Interconnection, L.L.C.

Description: § 205(d) Rate Filing: Original NSA, Service Agreement No. 6883; Queue No. AF1-290 to be effective 7/11/2023.

Filed Date: 5/11/23.

Accession Number: 20230511-5052.

Comment Date: 5 p.m. ET 6/1/23.

Docket Numbers: ER23-1865-000.

Applicants: PacifiCorp.

Description: Compliance filing: Compliance Filing of PacifiCorp to Docket No. EL22-38 to be effective 4/27/2023.

Filed Date: 5/11/23.

Accession Number: 20230511-5068.

Comment Date: 5 p.m. ET 6/1/23.

Docket Numbers: ER23-1866-000.

Applicants: Southern California Edison Company.

Description: § 205(d) Rate Filing: UFA, Centennial Flats with Upstream HC-1 LLC (TOT899-Q1529/SA300) to be effective 5/12/2023.

Filed Date: 5/11/23.

Accession Number: 20230511-5078.

Comment Date: 5 p.m. ET 6/1/23.

Docket Numbers: ER23-1867-000.

Applicants: Southern Company Services, Inc.

Description: Southern Companies requests waiver from certain Version 003.3 business practice standards of the North American Energy Standards Board and incorporated by reference into Commission Regulations in Order No. 676-J.

Filed Date: 5/1/23.

Accession Number: 20230501-5596.

Comment Date: 5 p.m. ET 5/22/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2023.
Debbie-Anne A. Reese,
Deputy Secretary.

[FR Doc. 2023-10516 Filed 5-16-23; 8:45 am]

BILLING CODE 6717-01-P